ENVIRONMENTAL PROTECTION AGENCY

40 CFR Part 300

[FRL-6718-4]

National Oil and Hazardous Substances Pollution Contingency Plan; National Priorities List

AGENCY: Environmental Protection Agency (EPA).

ACTION: Direct final rule and request for comments.

SUMMARY: EPA Region 5 announces the Partial Deletion of the Motor Wheel Disposal Superfund Site from the National Priorities List (NPL) and requests public comment on this action. Specifically, 3.45 acres of land would be deleted from the Site. The NPL constitutes Appendix B of 40 CFR part 300 to the National Oil and Hazardous Substances Pollution Contingency Plan (NCP), which EPA promulgated pursuant to section 105 of the Comprehensive Environmental Response, Compensation, and Liability Act of 1980 (CERCLA), as amended. EPA is taking this action because the Remedial Investigation (RI) has shown that the release poses no significant threat to public health or the environment and, therefore, remedial measures are not appropriate for the 3.45 acres of land. EPA, in consultation with the State of Michigan, has determined that no further response is appropriate. Moreover, EPA and the State have determined that remedial activities conducted at the 3.45 acres of land to date have been protective of public health, welfare, and the environment.

DATES: This “direct final” action will be effective August 21, 2000 unless U.S. EPA receives dissenting comments by July 24, 2000. If written dissenting comments are received, EPA will publish a timely withdrawal of the rule in the Federal Register informing the public that the rule will not take effect.

ADDRESSES: Comments may be mailed to Gladys Beard, Associate Remedial Project Manager, Superfund Division, U.S. EPA, Region 5 77 W. Jackson Blvd. (SR-6J), Chicago, IL 60604. Comprehensive information on the site is available at U.S. EPA's Region 5 office and at the local information repository located at: The Lansing Public Library, Reference Section, 401 Capital Ave., Lansing, MI 48933. Requests for comprehensive copies of documents should be directed formally to the Region 5 Docket Office. The address and phone number for the Regional Docket Officer is Jan Pfundheller (H-7J), U.S. EPA, Region 5, 77 W. Jackson Blvd., Chicago, IL 60604, (312) 353-5821.

FOR FURTHER INFORMATION CONTACT: Heather Nelson, Remedial Project Manager, at (312) 353-0685 (SR-6J), or Gladys Beard, Associate Remedial Project Manager, Superfund Division (SR-6J), U.S. EPA, Region 5, 77 W. Jackson Blvd., Chicago, IL 60604, (312) 886-7253 or Jennifer Ostermeier (P-19J), Office of Public Affairs, U.S. EPA, Region 5 77 W. Jackson Blvd.,Chicago, IL 60604, (312) 353-0618.

SUPPLEMENTARY INFORMATION:

Table of Contents

I. Introduction

II. NPL Deletion Criteria

III. Deletion Procedures

IV. Basis for Intended Site Deletion

V. Action

I. Introduction

EPA Region 5 announces the deletion of 3.45 acres of the Motor Wheel Disposal Superfund Site from the National Priorities List (NPL), appendix B of the National Oil and Hazardous Substances Pollution Contingency Plan (NCP), 40 CFR part 300. EPA identifies sites that appear to present a significant risk to public health, welfare and the environment, and maintains the NPL as the list of those sites. Sites on the NPL may be the subject of remedial actions that the Hazardous Substance Superfund Response Trust Fund (Fund) finances. Under § 300.425(e)(3) of the NCP, any site or portion of site deleted from the NPL remains eligible for Fund-financed remedial actions if the conditions at the site warrant such action.

EPA will accept comments on this proposal for thirty (30) days after publication of this document in the Federal Register.

Section II of this document explains the criteria for deleting sites from the NPL. Section III discusses procedures that EPA is using for this action. Section IV discusses the history of this site and explains how a portion of the Site meets the deletion criteria. Section V states EPA's prospective action of deleting a portion of the Site from the NPL unless dissenting comments are received during the comment period.

Deletion or partial deletion of sites from the NPL does not itself create, alter, or revoke any individual's rights or obligations. Furthermore, deletion from the NPL does not in any way alter EPA's right to take enforcement actions, as appropriate. The NPL is designed primarily for informational purposes and to assist in Agency management.

II. NPL Deletion Criteria

Section 300.425(e) of the NCP provides that Sites may be deleted from, or recategorized on, the NPL where no further response is appropriate. In making a determination to delete a release from the NPL, EPA shall consider, in consultation with the state, whether any of the following criteria have been met:

(i) Responsible parties or other persons have implemented all appropriate response actions required; or

(ii) All appropriate Fund-financed responses under CERCLA have been implemented, and no further response action by responsible parties is appropriate; or

(iii) The Remedial Investigation has shown that the release poses no significant threat to public health or the environment and, therefore, remedial measures are not appropriate.

III. Deletion Procedures

The following procedures were followed before the proposed partial deletion of this Site from the NPL: (1) The RI has shown that the 3.45 acres of the Motor Wheel Disposal Site poses no significant threat and therefore, remedial measures are not appropriate; (2) the State of Michigan has concurred with the proposed deletion decision; (3) a notice has been published in the local newspaper and has been distributed to appropriate federal, state, and local officials and other interested parties announcing the commencement of a 30-day dissenting public comment period on EPA's Direct Final Action for Partial Deletion; and, (4) all relevant documents have been made available for public review in the local Site information repositories. EPA is requesting only dissenting comments on the Direct Final Action for Partial Deletion.

For partial deletion of the Site, EPA's Regional Office will accept and evaluate public comments on EPA's Final Notice. If necessary, the Agency will prepare a Responsiveness Summary, responding to each significant comment submitted during the public comment period. As stated in section I above, deletion or partial deletion of the Site from the NPL does not itself create, alter, or revoke any individual's rights of obligations. The NPL is designed primarily for informational purposes and to assist Agency management.

IV. Basis for Intended Partial Site Deletion

Motor Wheel is a 24-acre site located on the northeast edge of the City of Lansing within the NE ¼,SW ¼, section 3 of Lansing Township (T.4N., R.2W.), Ingham County, Michigan. The Site is bordered by abandoned Michigan Central Railroad tracks to the west and north, by the W.R. Grace & Co. plant (formerly Michigan Fertilizer Company) to the south, and by the Lansing/Lansing Township boundary to the east.

The property was used by Motor Wheel Corporation as a disposal site for industrial wastes from 1938 until about 1978. The types of disposed wastes included, solid and liquid industrial wastes, including paints, solvents, liquid acids and caustics, sludges and other wastes. Wastes were disposed of on the property in tanks, barrels, and seepage pond areas for off-site disposal.

In December of 1982 there was a removal of three 10,000 gallon tanks and their contents, and degraded fill material from several locations on the Site. At the Motor Wheel Disposal Site, the RI has shown that the 3.45 acres are no threat to public health or the environment. The three tanks and approximately 800 cubic yards of contaminated soil and fill surrounding them, and approximately 350 cubic yards of fill material containing an unknown number of drums, were disposed of off site.

All operations at the Site were discontinued in 1987. The entire Site is currently inactive. MSV & Associates, which purchased the Site in 1978 and mined sand and gravel in the northeast portion of the property until 1987, is the current owner of the property. The key surface feature of the Site, the sand and gravel pit extending over the northern portion of the Site, is the result of earlier quarrying activities. The pit area, excavated to a depth of 50 feet, has relatively steep sided walls and a slope ranging from 2:1 (horizontal:vertical) to near vertical. There are several small ponds in the eastern part of the pit bottom.

Remedial Construction Activities

EPA issued a ROD September 30, 1991 selecting a remedy that includes the following major elements:

• Construction of a landfill cap in the area of waste disposal.

• Construction and operation of a collection system to contain and extract ground water contaminated by Site related hazardous constituents.

• Construction and operation of a treatment plant to treat contaminated ground water prior to surface discharge.

Design of the multimedia cap, which covers the entire fill area is based on the specifications of Michigan Act 64. The cap also meets and exceeds the requirements for a RCRA subtitle C cap. The cap covers about 11.3 acres of waste area including additional backfilled areas which are necessary to maintain the cap's integrity. The capped area totals about 14.9 acres. The capped area is fenced to restrict access. The 3.45 acres are located outside of the capped area. The Site is defined as the parcel of land in the East ½ of the Southwest ¼ of section 3, T4N, R2W, City of Lansing, Ingham County, Michigan; the boundary of said parcel being described as commencing at the South ¼ Corner of section 3, T4N, R2W, Michigan Meridian; thence N 00°00′01″ W, along the North-South ¼ line of said Section, 1310.21 feet to the centerline of Lake Lansing Road and to the point of beginning; thence S 48°58′00″ W, along the centerline of Lake Lansing Road, 9.46 feet; thence S 89°46′42″ W, along the North line of the Plat of Park Manor Heights, 224,75 feet; thence N 18°44′17″ 100.00 feet; thence N 08°10′31″ W, 7097 feet; thence N 02°35′23″ W, 379.08 feet; thence N 88°30′21″ E, 291.32 feet; thence S 00°00′01″ E, along the North-South ¼ line of said section, 544.16 feet to the point of beginning; said parcel contains the 3.45 acres of land which is intended for deletion.

The ROD, based on information provided in the Remedial Investigation (RI), included a provision for the collection and treatment of contaminated groundwater from an on-site perched aquifer and from the glacial aquifer below and in the near vicinity of the Site. The ROD also indicated the potential for additional remediation to address any contamination which may have entered the bedrock aquifer.

A special notice letter was issued to the PRP's on December 10, 1991. The negotiations which followed the PRP's good faith offer, resulted in an agreement to proceed with a Remedial Design (RD) under an Administrative Order on Consent (May 26, 1992); a letter of intent from PRP's to enter into the negotiated Remedial Action (RA) Consent Decree; and extension of the moratorium to accommodate the Respondents desire to resolve internal allocation issues through arbitration prior to signing the Consent Decree. This agreement also included the PRP's declared intention to continue investigation of water quality in the bedrock aquifer and to address contamination in the bedrock aquifer, if any, in this action. The RA Consent Decree was entered April 22, 1994.

Groundwater investigations conducted in conjunction with pre-design studies indicated a more extensive area of groundwater contamination within the glacial aquifer extending about 7200 feet down gradient from the Site and geologic conditions which showed a potential pathway for migration of contaminants from the glacial to the bedrock aquifer.

An additional investigation of water quality in the bedrock aquifer was also a part of the predesign study. Results of this investigation summarized in The Investigation of the Saginaw Aquifer at the Motor Wheel Disposal Site, November 1996 indicated that levels of some site related contaminants in the bedrock aquifer exceed drinking water standards. On the basis of this information the design of the groundwater collection and treatment system was expanded to accommodate the expected volume from the bedrock aquifer. The RI did not show contaminated groundwater beneath the 3.45 acres.

The RD conducted in accordance with the ROD and the approved RD Work Plan was approved by EPA and the RA was formally initiated by PRP contractors July 25, 1997. All remedial activities were conducted as planned. EPA and the State conducted pre-final inspections. The inspection report includes a description and a schedule for correcting minor construction items by the PRP contractor. EPA and the State determined that the following RA activities were completed according to ROD design specifications:

• Construction of an engineered cap which meets applicable or relevant and appropriate requirements over the on-site waste disposal area;

• Construction of an extraction and collection system to contain groundwater in the perched, glacial and bedrock aquifers which contain site related hazardous constituents;

• Construction of an on-site facility for treatment of contaminated groundwater; and

• Construction of a main system for discharge of treated groundwater.

The groundwater extraction and treatment system began operation November 20, 1997 and is scheduled to continue until cleanup standards have been achieved.

V. Action

EPA, with the State of Michigan concurrence, has determined that no responses are necessary at the 3.45 acres which comprise a portion of the Motor Wheel Disposal Site, and no further CERCLA response is appropriate or necessary in order to provide protection of human health and the environment other than the ongoing inspection, maintenance and monitoring activities. Therefore, EPA is deleting that portion of the Site which is comprised of 3.45 acres from the NPL.

This action will be effective August 21, 2000. However, if EPA receives dissenting comments by July 24, 2000, EPA will publish a timely withdrawal of the rule in the Federal Register informing the public that the rule will not take effect.

List of Subjects in 40 CFR Part 300

Environmental protection, Air pollution control, Chemicals, Hazardous substances, Hazardous waste, Intergovernmental relations, Penalties, Reporting and recordkeeping requirements, Superfund, Water pollution control, Water supply.

Dated: June 7, 2000.
Robert Springer,
Acting Regional Administrator, Region 5.

Part 300, Title 40 of Chapter 1 of the Code of Federal Regulations is amended as follows:

PART 300—[AMENDED]

1. The authority citation for Part 300 continues to read as follows:

Authority: 42 U.S.C. 9601-9657; 33 U.S.C. 1321(c)(2); E.O. 12777, 56 FR 54757, 3 CFR, 1991 Comp.; p.351; E.O. 12580, 52 FR 2923, 3 CFR, 1987 Comp.; p.193.

Appendix B—[Amended]

2. Table 1 of appendix B to part 300 is amended by removing the entry for Motor Wheel, Inc., Lansing, MI.

[FR Doc. 00-15388 Filed 6-21-00; 8:45 am]

BILLING CODE 6560-50-P